DEPARTMENT OF THE INTERIOR

Minerals Management Service

Environmental Documents Prepared for Proposed Oil and Gas Operations on the Gulf of Mexico Outer Continental Shelf (OCS)

AGENCY: Minerals Management Service, Interior.

ACTION: Notice of the availability of environmental documents. Prepared for OCS mineral proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares an SEA and FONSI for proposals that relate to exploration for and the development/production of oil and gas resources on the Gulf of Mexico OCS. The EA examines the potential environmental effects of activities described in the proposals and present MMS conclusions regarding the significance of those effects.

Environmental Assessments are used as a basis for determining whether or not approval of the proposals constitutes major Federal actions that significantly affect the quality of the human environment in the sense of NEPA section 102(2)(C). A FONSI is prepared in those instances where MMS finds that approval will not result in significant effects on the quality of the human environment. The FONSI briefly presents the basis for that finding and includes a summary or copy of the EA.

This notice constitutes the public notice of availability of environmental documents required under the NEPA Regulations.

This listing includes all proposals for which the Gulf of Mexico OCS Region prepared a FONSI in the period subsequent to publication of the preceding notice.

Activity/Operator | Location | Date
Murphy Exploration & Production Company, Supplemental Development Operations, SEA Nos. S-05676, P-13457 and P-13458 | South Timbalier Area, Block 86, Lease OCS-G 00605, 18 miles south of Lafourche Parish, Louisiana | 09/10/01
TotalFinaElf, Inc., Williams Field Services-Gulf Coast Company, L.P., Right-of-Use and Easement and Pipeline Activity, SEA Nos. P-13233-13260, 13355-13358 and RUE-1 | Canyon Express and Canyon Station Projects, Camden Hill, Aconcagua and King's Peak Field Development from Mississippi Canyon and DeSoto Canyon, through Viosca Knoll and Main Pass to Main Pass 261, 89 miles south of Mobile County Alabama, and 68 to 93 miles east and southeast of Plaquemines Parish, Louisiana | 09/13/01
Marathon Oil Company, Initial Exploration Plan, SEA No. N6974 | Desoto Canyon Area, Block 927, Lease OCS-G 10480, 104 miles off the coast of Plaquemines Parish, Louisiana | 10/18/01
El Paso Production Oil & Gas Company, Pipeline Activity, SEA No. P-13114 | High Island Area, Block A-368, Lease OCS-G 02433, 118 miles off the coast of Texas, and 123 miles from Cameron, Louisiana | 12/06/01
Forest Oil Company, Structure Removal Activity, SEA No. ES/SR 00-038A | West Cameron Area, Block 212, Lease OCS-G 04758, 39 miles south of Cameron, Louisiana, and 37 miles south of Cameron Parish, Louisiana | 09/07/01
RME Petroleum Company, Structure Removal Activity, SEA No. ES/SR 01-049A | Ship Shoal Area, Block 204, Lease OCS-G 01520, 81 miles south of Morgan City, Louisiana, and 38 miles south-southwest of Terrebonne Parish, Louisiana | 09/05/01
Callon Petroleum Company, Structure Removal Activity, SEA No. ES/SR 01-070A | Main Pass (South and East Addition) Area, Block 165, Lease OCS-G 05705, 26 miles southeast of Chandeleur Islands, Louisiana, and 66 miles south-southwest of Theodore, Alabama | 09/17/01
Hall-Houston Oil Company, Structure Removal Activity, SEA No. ES/SR 01-072 | West Delta Area, Block 94, Lease OCS-G 00839, 29 miles southeast of Fourchon, Louisiana, and 25 miles southeast of LaFourche Parish, Louisiana | 08/27/01
Agip Petroleum, Structure Removal Activity, SEA No. ES/SR 01-073A | Grand Isle Area, Block 102, Lease OCS-G 05662, 46 miles south-southeast of LaFourche Parish, Louisiana, and 48 miles south-southeast of Fourchon, Louisiana | 08/29/01
Amerada Hess Corporation, Structure Removal Activity, SEA No. ES/SR 01-074 | East Cameron Area, Block 188, Lease OCS-G 13586, 73 miles south-southeast of Cameron, Louisiana, and 57 miles south-southwest of Cameron Parish, Louisiana | 08/24/01
Callon Petroleum Company, Structure Removal Activity, SEA No. ES/SR 01-071A | Main Pass (South and East Addition) Area, Block 165, Lease OCS-G 05705, 26 miles east-southeast of Chandeleur Islands, Louisiana, and 64 miles south-southwest of Theodore, Alabama | 09/04/01
Energy Resource Technology, Inc., Structure Removal Activity, SEA No. ES/SR 01-077 | Eugene Island Area, Block 128A, Lease OCS-G 00442, 30 miles southwest of Terrebonne Parish, Louisiana, and 58 miles south-southwest of Morgan City, Louisiana | 09/17/01
El Paso Production GOM, Inc., Structure Removal Activity, SEA No. ES/SR 01-078 | West Cameron (South Addition) Area, Block 509, Lease OCS-G 15101, 95 miles south-southeast of Cameron, Louisiana, and 83 miles south-southwest of Cameron Parish, Louisiana | 09/26/01
Kelley Oil Company, Structure Removal Activity, SEA Nos. ES/SR 01-079 and 01—080 | Mobile Area, Blocks 822 and 865, Leases OCS-G 05056 and 06847, Platform B lies 7 miles south of Dauphin Island, Alabama, and 41 miles south-southwest of Mobile, Alabama. Platform A lies 6 miles south of Dauphin Island, Alabama, and 39 miles south-southwest of Mobile, Alabama | 10/04/01
Amerada Hess Corporation, Structure Removal Activity, SEA No. ES/SR 01-081 | Breton South Area, Block 55, Lease OCS-G 04492, 6 miles southeast of Breton Island, and 23 miles northeast of Venice, Louisiana | 10/04/01
Forest Oil Corporation, Structure Removal Activity, SEA No. ES/SR 01-082 | High Island Area, Block A20, Lease OCS-G 06178, 34 miles southeast of Galveston, Texas, and 76 miles southwest of Cameron, Louisiana | 10/17/01
Louis Dreyfus Natural Gas, Structure Removal Activity, SEA No. ES/SR 01-083 | West Cameron (West Addition) Area, Block 408, Lease OCS-G 10508, 64 miles south-southwest of Cameron Parish, Louisiana, and 83 miles southeast of Sabine Pass, Texas | 10/17/01
Texaco Exploration and Production, Inc., Structure Removal Activity, SEA Nos. ES/SR 01-084, 01-085, 01-086, 01-087 and 01-088 | South March Island (North Addition) Area, Blocks 217, 218, 238 and 239, Lease OCS 00310, between 8 to 11 miles southwest and 6 miles south-southwest of Iberia Parish, Louisiana, and 23 to 36 miles southeast of Intracoastal City, Louisiana | 11/14/01
Texaco Exploration and Production, Inc., Structure Removal Activity, SEA No. ES/SR 01-089 | Vermilion Area, Block 30, Lease OCS-G 04785, 7 miles south-southeast of Vermilion Parish, Louisiana, and 21 miles south of Intracoastal City, Louisiana | 11/27/01
Vastar Offshore, Inc., Structure Removal Activity, SEA No. ES/SR 01-090 | South Pelto Area, Block 11, Lease OCS-G 00071, 8 miles south of Terrebonne Parish, Louisiana, and 33 miles south-southwest of Fourchon, Louisiana | 11/08/01
Denbury Resources Inc., Structure Removal Activity, SEA No. ES/SR 01-091 | High Island (East Addition South Extension) Area, Block A-286, Lease OCS-G 03486, 91 miles south-southeast of Galveston County, Texas, and 105 miles south-southwest of Cameron, Louisiana | 11/15/01
Maritech Resources, Inc., Structure Removal Activity, SEA Nos. ES/SR 01-092, 01-093, 01-094, 01-095, 01-096, 01-097, 01-098, 01-099 and 01-100 | West Delta Area, Block 32, Leases OCS-G 00367 and 01332, 19 miles east-southeast of Grand Isle, Louisiana, and 10 miles south-southwest of Plaquemines Parish, Louisiana | 11/28/01
Seneca Resources Corporation, Structure Removal Activity, SEA No. ES/SR 01-101 | Vermilion Area (South Addition), Block 296, Lease OCS-G 09511, 114 miles southwest of Morgan City, Louisiana, and 78 miles south-southwest of Iberia Parish, Louisiana | 11/27/01
BP America, Inc., Structure Removal Activity, SEA No. ES/SR 01-102 | South Pelto Area, Block 11, Lease OCS-G 00071, 8 miles south of Terrebonne Parish, Louisiana, and 33 miles south-southwest of Fourchon, Louisiana | 11/16/01
Apex Oil & Gas, Inc., Structure Removal Activity, SEA No. ES/SR 01-103 | East Cameron Area, Block 24, Lease OCS-G 04098, 5 miles south-southwest of Cameron Parish, Louisiana, and 35 miles east-southeast of Cameron, Louisiana | 12/10/01

Persons interested in reviewing environmental documents for the proposals listed above or obtaining information about EAs and FONSIs prepared for activities on the Gulf of Mexico OCS are encouraged to contact MMS at the address or telephone listed in the FOR FURTHER INFORMATION section.

Dated: December 18, 2001.
Chris C. Oynes,
Regional Director, Gulf of Mexico OCS Region.

[FR Doc. 02-976 Filed 1-4-02; 8:45 am]

BILLING CODE 4310-MR-P